DEPARTMENT OF AGRICULTURE

Forest Service

Ottawa National Forest, Ontonagon County, MI; Baltimore Vegetative Management Project

AGENCY: Forest Service, USDA.

ACTION: Notice of intent to prepare an environmental impact statement.

SUMMARY: The USDA-Forest Service will prepare an Environmental Impact Statement (EIS) for the Baltimore Vegetative Management Project (VMP) to disclose the effects of the following activities: Timber harvest; site preparation for natural and artificial regeneration; tree planting; dispersed parking area improvement and development; trail construction; relocating a portion of an existing snowmobile trail; classification of old growth; maintenance of permanent openings and mowing roads for wildlife habitat; fisheries habitat improvement; expansion of an existing gravel pit; and transportation management that would include road construction, road reconstruction, temporary road construction, road maintenance, road decommissioning and obliteration, and road closure to passenger vehicles.

The project area begins approximately 4 miles north of Bruce Crossing, Michigan, and lies to the east and west of US Highway 45 (US-45). It is in the Baltimore Opportunity Area on the Ontonagon Ranger District and the North Ewen Opportunity Area on the Bergland Ranger District.

DATES: Comments and suggestions concerning the scope of the analysis should be received within 30 days following publication of this notice. The draft environmental impact statement (DEIS) is expected to be filed with the Environmental Protection Agency (EPA) and available for public review in November 2002, and the final environmental impact statement (FEIS) is expected in March 2003.

ADDRESSES: Written comments and suggestions concerning the scope of the analysis should be sent to: District Ranger, Ontonagon Ranger District, 1209 Rockland Road, Ontonagon, MI 49953.

FOR FURTHER INFORMATION CONTACT: John Strasser, Interdisciplinary Team Leader, Ontonagon Ranger District, Phone: (906) 884-2411.

SUPPLEMENTARY INFORMATION: The project area contains approximately 35,900 acres, of which approximately 28,475 are National Forest System acres, on the Ontonagon and Bergland Ranger Districts on the Ottawa National Forest, Ontonagon County, Michigan. The legal description of the project area contains all or parts of the following locations: T49N R38W, Sections 18, 19, 30; T49N R39W, Sections 1-36; T49N R40W, Sections 1-4, 8-17, 20-28, 33-36; and T50N R39W, Sections 27, 31-35, Michigan Meridian.

The proposed project area includes portions of management areas (MAs) 1.1, 8.1, 9.2, and 9.3, and is comprised of National Forest System lands and parcels of private land. The Ottawa Forest Plan provides guidance for management activities within the potentially affected area through its goals, objectives, standards and guidelines, and management area direction.

Purpose and Need for Action

The purpose and need for action is to:

(1) Promote and maintain processes that would enhance natural species diversity while providing a supply of wood products for regional and local needs to help support a stable economic base within the market area.

(2) Maintain and enhance habitat conditions that sustain viable populations of a variety of fish and wildlife species and enhance watershed conditions.

(3) Maintain a road system that allows for management of National Forest System lands and provides for public access while meeting other resource needs.

(4) Provide recreational opportunities to meet the public's needs.

(5) Provide for public safety.

Proposed Action

The Forest Service proposes treatments on approximately 3360 acres of National Forest System land that would harvest approximately 48,000 hundred cubic feet (CCF) (equivalent to approximately 61,000 cords) of timber through a variety of harvest methods. Silvicultural treatment systems that would be used include: clearcut with reserve trees on approximately 1975 acres, selection harvest on approximately 100 acres, commercial thinning on approximately 825 acres, shelterwood harvest on approximately 360 acres, and removal harvest on approximately 100 acres. This proposal includes 15 temporary openings greater than 40 acres (size range is approximately 50 to 186 acres), to treat Aspen forest types at high risk of loss to insect and disease (60 days' public notice period and Regional Forester review would be required prior to signing the Record of Decision for exceeding the forty-acre temporary opening limit set in 36 CFR 219.27(d)(2)). Connected treatment actions would include site preparation for natural and artificial regeneration on approximately 2200 acres, and supplemental conifer planting on approximately 400 acres. The proposal also includes the classification of approximately 1650 acres of old growth, of which approximately 290 acres would be classified as managed old growth and approximately 1360 acres would be classified as unmanaged old growth.

The proposed National Forest road management needed to access the treatment areas would include an estimated: 1.1 miles of new system road construction, 9.7 miles of system road reconstruction, 40.8 miles of system road maintenance, and 1.0 mile of temporary road construction. Temporary roads would be obliterated and allowed to revegetate to a natural state following completion of treatment activities.

In addition to the above proposed road treatments, the following road management would allow for future management of National Forest lands, provide for public access, and meet other resource needs. This includes an estimated: 28.1 miles of road decommissioning, 15.6 miles of system road reconstruction, 49.6 miles of system road maintenance, and 2.6 miles of road being unclassified. The 2.6 miles of unclassified road are no longer needed for long-term management of forest resources, but are access routes currently under special use permit or being used by leaseholders.

The proposed expansion of the Gauthier Gravel Pit would provide materials necessary for future transportation management.

The proposed wildlife and fisheries management activities, intended to maintain or enhance wildlife and fisheries habitat, would include: maintaining approximately 165 acres of permanent openings, mowing along approximately 13 miles of road to improve succulent forage for grouse, scarifying some sites for seeding or natural regeneration of conifers to increase the conifer component in existing conifer stands, hand-cutting small patches of Tag Alder adjacent to Aspen stands to rejuvenate woodcock habitat, add/create large coarse woody debris to some of the harvested Aspen stands for grouse and other species, and adding large woody debris at selected sites in the Baltimore River.

The proposed dispersed recreation management activities, intended to maintain or enhance existing recreation opportunities to meet current and expected future demand while protecting resources, would include: hardening, enhancing, or developing some dispersed recreation camping sites adjacent to Forest Roads 730 and 733, conversion of approximately 300 feet of existing unclassified road to a trail to protect resources while still allowing for Ontonagon River access, and improvement of a small parking area near the Ontonagon River access site.

The proposed management needed to address public health and safety concerns would include relocating a portion of snowmobile trail #3 that is currently located in the US-45 right of way. The existing trail location creates a less than ideal safety situation for motor vehicle users on the highway and also for snowmobilers.

Possible Alternatives

The Forest Service will consider a range of alternatives. One of these will be the “no action” alternative in which none of the proposed activities would be implemented. Additional alternatives will examine varying levels and locations for the proposed activities to achieve the proposal's purposes, as well as to respond to the issues and other resource values.

The EIS will analyze the direct, indirect, and cumulative environmental effects of the alternatives. Past, present, and projected activities on both private and National Forest System lands will be considered. The EIS will disclose site-specific design criteria.

Responsible Official

Ralph E. Miller, Acting District Ranger, Ontonagon Ranger District, 1209 Rockland Rd., Ontonagon, MI 49953, is the Responsible Official. As the Responsible Official he will decide if the proposed project will be implemented. He will document the decision and reasons for the decision in the Record of Decision.

Nature of Decision To Be Made

The Ontonagon District Ranger will decide the following:

• Whether or not to implement vegetation management activities, and if so, identify the selection of, and site-specific location of, appropriate timber management practices (silvicultural prescription, site preparation, and reforestation).

• Identify road construction, reconstruction, maintenance, and temporary road construction necessary to provide access to accomplish treatments, or provide for long-term resource management, as well as any appropriate design criteria.

• Whether or not to permanently decommission, obliterate, or close roads to restrict passenger vehicle access or protect resources, and if so, where and how.

• Whether or not to expand an existing gravel pit, and if so, to what extent.

• Whether or not to maintain permanent openings and mow certain roads, and if so, the location and size of openings to be maintained and roads to be mowed.

• What improvements or developments, if any, should be undertaken to enhance dispersed recreation opportunities.

• Whether or not to relocate a portion of snowmobile trail #3, and if so, where.

• What, if any, specific project monitoring requirements would be needed to assure design criteria are implemented and effective.

Public Involvement and Scoping

In July 1998, initial scoping was done for the Thumper Vegetation Management Project that was listed in the 1998 winter edition of the Ottawa Quarterly. The 1999 summer edition of the Ottawa Quarterly further included the Winterfest Timber Sale as part of the Thumper Vegetation Management Project. This project was never completed and is now included in the Baltimore analysis. Comments received regarding the Thumper Vegetation Management Project prior to this notice will be included in the documentation for the EIS. The public is encouraged to take part in the process by communicating or visiting with Forest Service officials at any time during the analysis and prior to the decision. The Forest Service will be seeking information, comments, and assistance from Federal, State, and local agencies, as well as other individuals or organizations that may be interested in, or affected by, the proposed action. This input will be used in preparation of the draft and final EIS. The scoping process will include:

• Initiating public involvement.

• Identifying potential issues.

• Identifying major issues to be analyzed in depth.

• Identifying alternatives to the proposed action.

• Identifying potential environmental effects of this proposed action and the alternatives (i.e. direct, indirect, and cumulative effects and connected actions).

Preliminary Issues

Tentatively, a few preliminary issues of concern have been identified. These issues are briefly described below.

Transportation System

Implementation of the proposed action would decommission roads not needed for the long-term transportation system. Some additional segments of road would be managed as closed to some types of motorized use. This may affect the public's ability to use traditional access routes.

Vegetation

There are large areas of mature and declining Aspen that are at high risk of loss to insects or disease. When proposed harvest areas are added to recently harvested adjacent areas (0-10 years ago), several temporary open areas exceeding 40 acres would be created.

Public Health and Safety

A portion of snowmobile trail #3 is located in the US-45 right of way. The present trail location creates a situation where snowmobile traffic must parallel the highway, cross the highway several times, and cross the Ontonagon River by traveling over and along the US-45 bridge. This creates a less than ideal safety situation for motor vehicle users on the highway and also for snowmobilers. Within the scope of this project, proposing to relocate a portion of the existing trail could reduce the amount of trail within the US-45 right of way. For reasons outside the scope of this project, a separate analysis and document is needed to propose alternative methods for crossing the Ontonagon River, which could reduce the number of times the trail has to cross US-45 and eliminate snowmobiles having to travel over and along the US-45 bridge.

Comment Requested

This notice of intent initiates the scoping process which guides the development of the environmental impact statement. While public participation in this analysis is welcome at any time, comments received within 30 days of the publication of this notice will be especially useful in the preparation of the draft EIS.

Early Notice of Importance of Public Participation in Subsequent Environmental Review

A draft EIS will be prepared for comment. The draft EIS is expected to be filed with the EPA and to be available for public review in November 2002. At that time the EPA will publish a Notice of Availability of the draft EIS in the Federal Register. The comment period on the draft EIS will be 45 days from the date the EPA publishes the Notice of Availability in the Federal Register. It is very important that those interested in the management of this area participate at that time.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Dated: June 24, 2002.
Robert Lueckel,
Forest Supervisor.

[FR Doc. 02-16586 Filed 7-5-02; 8:45 am]

BILLING CODE 3410-11-P